NATIONAL SCIENCE FOUNDATION

Conservation Act of 1978; Notice of Permit Modification

AGENCY: National Science Foundation.

SUMMARY: The Foundation modified a permit to conduct activities regulated under the Antarctic Conservation Act of 1978 (Pub. L. 95-541; Code of Federal Regulations Title 45, Part 670).

FOR FURTHER INFORMATION CONTACT: Polly A. Penhale, Environmental Officer, Office of Polar Programs, Rm. 755, National Science Foundation, 4201 Wilson Boulevard, Arlington, VA 22230.

SUPPLEMENTARY INFORMATION: On September 21, 1999, the National Science Foundation issued a five-year permit (ACA #2000-001) to Dr. Steven D. Emslie after posting a notice in the August 17, 1999 Federal Register. Public comments were not received. A request to modify the permit was posted in the Federal Register on December 20, 2004. No public comments were received. The modification was issued by the Foundation on January 19, 2005.

Polly A. Penhale,
Environmental Officer.

[FR Doc. 05-2011 Filed 2-2-05; 8:45 am]

BILLING CODE 7555-01-M